DEPARTMENT OF ENERGY

Federal Energy Regulatory Commission

[Docket Nos. CP01-76-000, CP01-77-000, RP01-217-000, and CP01-156-000 (not consolidated)]

Cove Point LNG Limited Partnership; Notice to Parties

November 21, 2001.

This is to advise the parties in this proceeding that they may have access to non-public documents filed in or otherwise created for this proceeding (e.g., the transcript from the November 16, 2001 non-public conference), provided they sign the attached non-disclosure agreement. (Persons who are not parties to this proceeding must seek release under the Commission's Freedom of Information Act regulations in part 388 of Title 18 of the Code of Federal Regulations.) Requests should be submitted to the Secretary of the Commission in writing, specifying the exact document(s) sought and attaching a signed copy of the agreement. Any questions about the administration of the agreement should be directed to Jack Kendall, 202-208-0847.

David P. Boergers,
Secretary.